DEPARTMENT OF HOMELAND SECURITY

Federal Emergency Management Agency

Agency Information Collection Activities: Proposed Collection; Comment Request

AGENCY: Federal Emergency Management Agency, Emergency Preparedness and Response Directorate, U.S. Department of Homeland Security.

ACTION: Notice and request for comments.

SUMMARY: The Federal Emergency Management Agency, as part of its continuing effort to reduce paperwork and respondent burden, invites the general public and other Federal agencies to take this opportunity to comment on proposed new information collections. In accordance with the Paperwork Reduction Act of 1995 (44 U.S.C. 3506(c)(2)(A)), this notice seeks comments concerning the need to collect program information from stakeholders of the National Fire Programs (NFP), a part of the United States Fire Administration (USFA).

SUPPLEMENTARY INFORMATION: As an entity of the U.S. Department of Homeland Security/Federal Emergency Management Agency (FEMA), the mission of the USFA is to reduce life and economic losses due to fire and related hazards. The NFP, within the USFA, oversees the development of campaigns, products, services, curriculum and doctrine for leadership development training and educational courses. These programs are designed to increase the capacity and interoperability of the fire and emergency services on prevention, mitigation, and response to local emergencies and preparedness for consequences of day-to-day and larger scale disasters.

Collection of Information

Title: National Fire Programs (NFP) Stakeholders Interview.

Type of Information Collection: New collection.

OMB Number: 1660-NEW14.

Form Numbers: None.

Abstract: Consistent with performance-based management practices, the NFP is developing a comprehensive Strategic Business and Implementation Plan. This information collection will capture stakeholders' perspective critical to the NFP's ability to plan effectively and deliver demand-driven products and services. Data findings will be used to: (1) Support the development of the Strategic Business and Implementation Plan, and (2) set customer service standards.

Affected Public: State, local and Tribal governments, and Not-for-Profit Institutions.

Estimated Total Annual Burden Hours: 50 hours.

Annual Burden Hours
Project/activity (survey form(s), focus group, etc.) | Number of respondents | Frequency of responses | Burden hours per respondent | Annual responses | Total annual burden hours
| (A) | (B) | (C) | (AxB ) | (AxBxC)
Stakeholders' Interviews | 50 | 1 | 1 | 50 | 50
Total | 50 | 1 | 1 | 50 | 50

Estimated Cost: $23 per response/interview.

Comments: Written comments are solicited to (a) Evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments should be received within 60 days of the date of this notice.

ADDRESSES: Interested persons should submit written comments to Muriel B. Anderson, Chief, Records Management Section, Information Resources Management Branch, Information Technology Services Division, Federal Emergency Management Agency, Emergency Preparedness and Response Directorate, Department of Homeland Security, 500 C Street, SW., Room 316, Washington, DC 20472.

FOR FURTHER INFORMATION CONTACT: Contact Colleen Heilig, Training Specialist, U.S. Fire Administration at (301) 447-1613 for additional information. You may contact Ms. Anderson for copies of the proposed collection of information at facsimile number (202) 646-3347 or e-mail address: FEMA-Information-Collections@dhs.gov.

Dated: December 27, 2004.
George S. Trotter,
Acting Branch Chief, Information Resources Management Branch, Information Technology Services Division.

[FR Doc. 05-26 Filed 1-3-05; 8:45 am]

BILLING CODE 9010-17-P